DEPARTMENT OF HEALTH AND HUMAN SERVICES

National Institutes of Health

Notice Correction; A Multi-Center International Hospital-Based Case-Control Study of Lymphoma in Asia (AsiaLymph) (NCI)

The Federal Register notice published on February 24, 2012 (77 FR 11136) announcing the submission to OMB of the project titled, “A multi-center international hospital-based case-control study of lymphoma in Asia (AsiaLymph) (NCI)” was submitted with an error. The “Type of Information Collection Request” was incorrectly listed as an Emergency. This submission should be considered a new submission.

Dated: February 24, 2012.
Vivian Horovitch-Kelley,
NCI Project Clearance Liaison, National Institutes of Health.

[FR Doc. 2012-4884 Filed 2-29-12; 8:45 am]

BILLING CODE 4140-01-P